DEPARTMENT OF ENERGY

Federal Energy Regulatory Commission

[Docket No. ER13-1864-000]

Southwest Power Pool, Inc.; Notice of Technical Conference

By order dated July 11, 2014, in Docket No. ER13-1864-000, the Federal Energy Regulatory Commission (Commission) directed staff to convene in a technical conference regarding Southwest Power Pool, Inc.'s proposed modifications to its Joint Operating Agreement with Midcontinent Independent System Operator, Inc. to implement a market-to-market coordination mechanism (Market-to-Market protocols).¹ Take notice that such conference will be held on Monday, September 22, 2014, at the Commission's headquarters at 888 First Street NE., Washington, DC 20426, between 9:30 a.m. and 4:00 p.m. (Eastern Time) in the Commission Meeting Room. The conference will be open for the public to attend and will not be available via webcast. The technical conference will be led by Commission staff.

¹ Southwest Power Pool, Inc., 148 FERC ¶ 61,019 (2014).

Advance registration is required and may be made at the following Web page: https://www.ferc.gov/whats-new/registration/09-22-14-form.asp.

The purpose of this technical conference is to explore the following issues regarding the Market-to-Market protocols: (1) The implementation of Interface Bus Pricing (proposed tariff section 2); (2) the creation of Market-to-Market flowgates (proposed sections 3.1.13 and 8.1.4); and (3) the deferred implementation of a Day-Ahead Firm Flow Entitlement exchange process (proposed section 4). A subsequent notice providing a more detailed description of the topics to be discussed will be issued in advance of the technical conference. In addition, information on this event will be posted on the Calendar of Events on the Commission's Web site, www.ferc.gov, prior to the event. Following the technical conference, the parties will have an opportunity to file written comments that will be included in the formal record of the proceeding, which, together with the record developed to date, will form the basis for further Commission action.

FERC conferences are accessible under section 508 of the Rehabilitation Act of 1973. For accessibility accommodations please send an email to accessibility@ferc.gov or call toll free 1-866-208-3372 (voice) or 202-502-8659 (TTY); or send a fax to 202-208-2106 with the required accommodations.

For more information about this conference, please contact: Sarah McKinley, 202-502-8368, sarah.mckinley@ferc.gov, regarding logistical concerns, or Helen Shepherd, 202-502-6176, helen.shepherd@ferc.gov, regarding substantive issues.

Dated: August, 11, 2014.
Kimberly D. Bose,
Secretary.

[FR Doc. 2014-19469 Filed 8-15-14; 8:45 am]

BILLING CODE 6717-01-P